DEPARTMENT OF TRANSPORTATION

National Highway Traffic Safety Administration

[Docket No. NHTSA-2013-0009]

Request for Approval of a New Information Collection

AGENCY: National Highway Traffic Safety Administration, DOT.

ACTION: Notice and request for comments.

SUMMARY: In compliance with the Paperwork Reduction Act of 1995 (44 U.S.C. 3501 et seq.), this notice announces that the Information Collection Request (ICR) abstracted below is being forwarded to the Office of Management and Budget (OMB) for review and comments.

DATES: Written comments should be submitted on or before November 9, 2015.

ADDRESSES: Send comments to the Office of Information and Regulatory Affairs, Office of Management and Budget, 725 17th Street NW., Washington, DC 20503, Attention: NHTSA Desk Officer.

FOR FURTHER INFORMATION CONTACT: For additional information or access to background documents, contact Elizabeth Mazzae, Applied Crash Avoidance Research Division, Vehicle Research and Test Center, NHTSA, 10820 State Route 347—Bldg. 60, East Liberty, Ohio 43319; Telephone (937) 666-4511; Facsimile: (937) 666-3590; email address: elizabeth.mazzae@dot.gov.

SUPPLEMENTARY INFORMATION: Before a Federal agency can collect certain information from the public, it must receive approval from the Office of Management and Budget (OMB). In compliance with these requirements, this notice announces that the following information collection request has been forwarded to OMB. In the April 30, 2015, Federal Register,¹ NHTSA published a 60-day notice requesting public comment on the proposed collection of information. We received two comments.

¹ 80 FR 24314 (April 30, 2015).

First, the Alliance of Automobile Manufacturers (the “Alliance”) expressed concern with NHTSA's “continued focus on simulator research” as a basis for our driver distraction guidance. Specifically, the Alliance stated “that the study method proposed will not yield the meaningful and reliable metrics that will assist in saving lives and preventing crashes. Instead, such metrics and acceptance criteria should be developed using naturalistic driving data.” The Alliance qualified that this advice would not preclude the use of simulators for conducting development tests, but such tests and any auditory-vocal distraction metrics should be validated and calibrated against real-world data before putting forth recommendations. The Alliance also noted studies on auditory-vocal distraction it believes NHTSA should consider in formulating guidelines.

The objectives of the current work, to develop a low-cost, standardized test protocol and task acceptance criteria for evaluating the distraction potential of tasks performed with integrated systems, cannot be accomplished through naturalistic research. To achieve the greatest degree of repeatability and experimental control, the test protocol will use driving simulator and visual occlusion testing.

As the Alliance suggests, NHTSA will be conducting an on-road component to its research supporting the development of driver distraction guidelines for auditory-vocal interfaces that will be discussed in a Federal Register information collection request notice at a later date. NHTSA will pull from many sources in formulating its auditory-vocal guidelines. This will include analyzing data from NHTSA research studies as well as other relevant studies in this area of research.

Second, American Honda Motor Company, Inc. (Honda) commented that the quality of the NHTSA's driver distraction measurement research would be enhanced if Honda's “Pedal Tracking and Detection Response Task” (PT-DRT) method was included in this NHTSA research. Honda proposed that NHTSA collect objective data using the PT-DRT method as part of the current research. Honda also indicated that they would like NHTSA to adopt the PT-DRT method as an acceptable alternative to the currently allowed task acceptance protocol in NHTSA's Driver Distraction Guidelines.

NHTSA intends to conduct this research using a method that builds on the protocol developed for NHTSA's Visual-Manual Driver Distraction Guidelines and incorporates the extensively researched Detection Response Task (DRT). NHTSA intends for our Guidelines test protocol to be complementary and integrated, to the extent possible, to achieve an assessment that is both robust and efficient to conduct.

NHTSA believes that the scientific basis for the DRT method being standardized by ISO is strong. Furthermore, the results of research by ISO member organizations have been robust. The DRT will provide an easy to implement, reliable, and well-vetted method for comparing distraction effects of secondary tasks with that of a reference task (i.e., radio tuning).

NHTSA has received briefings and demonstrations of the PT-DRT method by Honda and has been impressed with their scientific, reasoned approach and willingness to share information with NHTSA. However, we feel it is most efficient and cost-effective for us at this point to move forward with investigating the incorporation of the well-vetted DRT into our driving simulator based method and not to add a second, new test method to the planned research. NHTSA wishes to clarify that the research will determine the test methods that we will use in evaluating auditory-vocal secondary tasks performed by drivers, vehicle manufacturers may use whatever method they desire to assess their own vehicles.

OMB Control Number: To be issued at time of approval.

Title: Driver Distraction Measurement Research.

Form Numbers: None.

Type of Review: New information collection.

Abstract: NHTSA seeks to collect information from the public as part of a multi-study research effort that supports the development of measurement techniques for auditory-vocal interactions involving in-vehicle and portable devices used by motor vehicle drivers. Driving experiments will be conducted using driving simulator and visual occlusion apparatus research tools. Study participants will perform specific secondary tasks while driving and their performance and behavior (e.g., eye glance locations and durations) will be recorded.

Information will be collected during participant recruitment to assess individuals' suitability for participation. Participants will complete a brief set of questions to assess the incidence and severity of any simulator-related discomfort. In the event a participant indicates they experienced severe discomfort, that participant's performance may be removed from the study and study staff will ensure that the person is well enough safely drive home or will arrange for another means of transportation.

Respondents: Web-based and print newspaper advertisements will be used to obtain respondents who are licensed drivers aged 18-70 years. Study participants must have no health conditions that may adversely affect driving performance, have average or better vision and hearing, and not require assistive devices to safely operate a vehicle. Criteria for participation also include driving at least 3,000 miles annually and experience using a cell phone while driving.

Estimated Number of Respondents: It is estimated that a total of 1,200 individuals will complete the first set of screening questions and 1,000 of those 1,200 will also complete the second set of screening questions. Of the 1,000, it is estimated that 500 individuals will meet criteria for participation. From those 500, approximately 300 individuals will be chosen to produce a balance of age and genders.

Estimated Time per Response: Completion of the screening questions is estimated to take approximately 5 minutes for the first set and 10 minutes for the second set. The simulator discomfort questionnaire is estimated to take 2 minutes per participant.

Total Estimated Burden: 278 total hours.

Frequency of Collection: The data collections described will be performed once to obtain the target number of 300 valid test participants.

NHTSA estimates the burden of this collection of information as follows:

Table 1—Estimated Burden Hours
Question set | N | H | C | Cost | Time
Screening, Part 1 | 1200 | 0.0833 | $79.00 | $7,896.84 | 100
Screening, Part 2 | 1000 | 0.1677 | 79.00 | 13,248.30 | 168
Simulator Sickness | 300 | 0.0333 | 48.00 | 479.52 | 10
Total |  |  |  | 21,624.66 | 278

Authority: The Paperwork Reduction Act of 1995; 44 U.S.C. Chapter 35, as amended; and 49 CFR 1.95.

Nathaniel Beuse,
Associate Administrator, Vehicle Safety Research.

[FR Doc. 2015-25798 Filed 10-8-15; 8:45 am]

BILLING CODE 4910-59-P